DEPARTMENT OF JUSTICE

Antitrust Division

Notice Pursuant to the National Cooperative Research and Production Act of 1993—Medical CBRN Defense Consortium

Notice is hereby given that, on April 7, 2022, pursuant to Section 6(a) of the National Cooperative Research and Production Act of 1993, 15 U.S.C. 4301 et seq. (“the Act”), Medical CBRN Defense Consortium (“MCDC”) has filed written notifications simultaneously with the Attorney General and the Federal Trade Commission disclosing changes in its membership. The notifications were filed for the purpose of extending the Act's provisions limiting the recovery of antitrust plaintiffs to actual damages under specified circumstances.

Specifically, 7 Hills Pharma LLC, Houston, TX; Aleph Therapeutics, Inc., Stanford, CA; Amaratek, San Diego, CA; Applied Research Associates, Inc.; Albuquerque, NM; Horizons Global Solutions LLC; Purcellville, VA; Icahn School of Medicine at Mount Sinai; New York, NY; Iowa State University of Science and Technology; Ames, IA; Mainstream Engineering Corporation; Rockledge, FL; Najit Technologies, Inc.; Beaverton, OR; National Strategic Research Institute; Lincoln, NE; POP Biotechnologies, Inc.; Buffalo, NY; The Henry M. Jackson Foundation for the Advancement of Military Medicine; Bethesda, MD; University of Massachusetts; Lowell, MA and Virion Therapeutics LLC; Newark, DE have been added as parties to this venture.

Also, Aardvark Medical, Inc., Ross, CA; Cytonus Therapeutics, Inc., Columbus, OH; Entasis Therapeutics, Waltham, MA; EUSA Pharma (US) LLC, Burlington, MA; GeneCapture, Inc., Huntsville, AL; and Visby Medical, Inc., San Jose, CA, have withdrawn as parties to this venture.

No other changes have been made in either the membership or planned activity of the group research project. Membership in this group research project remains open, and MCDC intends to file additional written notifications disclosing all changes in membership.

On November 13, 2015, MCDC filed its original notification pursuant to Section 6(a) of the Act. The Department of Justice published a notice in the Federal Register pursuant to Section 6(b) of the Act on January 6, 2016 (81 FR 513).

The last notification was filed with the Department on January 10, 2022. A notice was published in the Federal Register pursuant to Section 6(b) of the Act on March 10, 2022 (87 FR 13756).

Suzanne Morris,
Chief, Premerger and Division Statistics, Antitrust Division.

[FR Doc. 2022-10239 Filed 5-12-22; 8:45 am]

BILLING CODE P